COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and a service to be furnished by nonprofit agencies employing persons who are blind or have other severe disabilities.

EFFECTIVE DATE: July 22, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On December 7, 2001, March 29, and April 12, 2002, the Committee for Purchase From People Who Are Blind or Severely Disabled published notice (66 FR 63521, 67 FR 15175 and 19391) of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 U.S.C. 46-48c) in connection with the products and service proposed for addition to the Procurement List.

Accordingly, the following products and service are added to the Procurement List:

Products

Product/NSN: Air Rite Odor Counteractants, Gold/6840-00-NIB-0016

Product/NSN: Air Rite Odor Counteractants, Silver/6840-00-NIB-0018

Product/NSN: Air Rite Odor Counteractants, Red/6840-00-NIB-0019

Product/NSN: Air Rite Odor Counteractants, Blue/6840-00-NIB-0021

Product/NSN: Air Rite Odor Counteractants, Spearmint/6840-00-NIB-0022

Product/NSN: Air Rite Odor Counteractants, Honeysuckle/6840-00-NIB-0023

Product/NSN: Air Rite Odor Counteractants, Spice/6840-00-NIB-0025

Product/NSN: Air Rite Odor Counteractants, Sweet Pine/6840-00-NIB-0026

Product/NSN: Air Rite Odor Counteractants, Floral/6840-00-NIB-0027

Product/NSN: Air Rite Odor Counteractants, Citrus/6840-00-NIB-0028

Product/NSN: Air Rite Odor Counteractants, Vanilla Bean/6840-00-NIB-0029

Product/NSN: Air Rite Odor Counteractants, Green Apple Mint/6840-01-378-0412

Product/NSN: Air Rite Odor Counteractants, Green/6840-01-378-0447

NPA: Blind Industries & Services of Maryland, Baltimore, MD.

Contract Activity: Office Supplies & Paper Products Commodity Center, New York, NY.

Product/NSN: Catheter, External, Male, Self-Adhering, Wide-band/6530-00-NIB-0060

Product/NSN: Catheter, External, Male, Self-Adhering, Pop-on/6530-00-NIB-0061

Product/NSN: Catheter, External, Male, Self-Adhering, Pop-on /6530-00-NIB-0062

Product/NSN: Catheter, External, Male, Self-Adhering, Pop-on /6530-00-NIB-0063

Product/NSN: Catheter, External, Male, Self-Adhering, Pop-on /6530-00-NIB-0064

Product/NSN: Catheter, External, Male, Self-Adhering, Pop-on /6530-00-NIB-0065

Product/NSN: Catheter, External, Male, Self-Adhering, Wide-band /6530-00-NIB-0066

Product/NSN: Catheter, External, Male, Self-Adhering, Wide-band /6530-00-NIB-0067

Product/NSN: Catheter, External, Male, Self-Adhering, Wide-band /6530-00-NIB-0068

Product/NSN: Catheter, External, Male, Self-Adhering, Wide-band /6530-00-NIB-0069

NPA: Lighthouse for the Blind, St. Louis, MO.

Contract Activity: Department of Veterans Affairs Acquisition Center, Hines, IL.

Product/NSN: Kit, Employee Start, Up/7520-01-493-6006.

NPA: Blind Industries & Services of Maryland, Baltimore, MD.

Contract Activity: Office Supplies & Paper Products Commodity Center, New York, NY.

Service

Service Type/Location: Commissary Shelf Stocking, Custodial & Warehousing,

U.S. Coast Guard Support Center, Kodiak, AK.

NPA: MQC Enterprises, Inc., Anchorage, AK.

Contract Activity: Defense Commissary Agency, Fort Lee, VA.

This action does not affect current contracts awarded prior to the effective date of this addition or options that may be exercised under those contracts.

Sheryl D. Kennerly,
Director, Information Management.

[FR Doc. 02-15731 Filed 6-20-02; 8:45 am]

BILLING CODE 6353-01-P